DEPARTMENT OF TRANSPORTATION

Federal Aviation Administration

14 CFR Part 71

[Docket No. FAA-2004-18612; Airspace Docket No. 04-AWA-05]

RIN 2120-AA66

Modification of the Los Angeles Class B Airspace Area; CA

Correction

In rule document 05-15855 beginning on page 46754 in the issue of Thursday, August 11, 2005, make the following corrections:

§71.1 [Corrected]

1. On page 46756, in ÿ7E§71.1, under the heading AWP CA B Los Angeles, CA [Revised], in Area C., in the second line, “Lat. 34°57′42″ N.,” should read “Lat. 33°57′42″ N.,”.

2. On page 46757, in the same section, under the same heading, in Area E., in the second line, “Lat. 33°54′00″ N.,” should read “Lat. 33°54′04″ N.,”.

3. On the same page, in the same section, under the same heading, in the same Area, the sixth line, “Lat. 34°02′22″ N., long. 117°59′23″ W.”, should be deleted.

4. On the same page, in the same section, under the same heading, in Area J., in the sixth line, “Lat. 33°46′56″ N.,” should read “Lat. 33°46′40″ N.,”.ÿ7E

[FR Doc. C5-15855 Filed 10-25-05; 8:45 am]

BILLING CODE 1505-01-D